NUCLEAR REGULATORY COMMISSION

[Docket No. 040-08778]

Notice of Consideration of Amendment Request for Molycorp, Washington, PA, Site and Opportunity for a Hearing

The U.S. Nuclear Regulatory Commission (NRC) is considering issuance of a license amendment to Source Materials License 1393 issued to Molycorp (the licensee), to approve an alternate schedule for submittal of Part II of the Decommissioning Plan for the Molycorp, Washington, PA, site.

The Molycorp, Washington, PA, site is being decommissioned in two parts, under two sets of decommissioning criteria. Part I, for which a Decommissioning Plan (DP) was submitted on June 30, 1999, pertains to remediation at the site in accordance with NRC's “Action Plan to Ensure Timely Cleanup of Site Decommissioning Management Sites” (Action Plan) (57 FR 13389). The current license amendment request which is the subject of this notice, pertains to Part II of the DP; the disposition of material exceeding levels in the Action Plan under the criteria of the 1997 Radiological Criteria for License Termination (10 CFR Part 20, Subpart E). The licensee has requested that the date of submittal be extended from April 16, 2000, to July 16, 2000. An NRC administrative review has been performed, as documented in a letter to Molycorp dated April 4, 2000.

If the NRC approves the alternate schedule, the approval will be documented in an amendment to NRC License SMB-1393. However, before approving the proposed amendment, NRC will need to make the findings required by the Atomic Energy Act of 1954, as amended, and NRC's regulations.

NRC hereby provides notice that this is a proceeding on an application for a license amendment falling within the scope of Subpart L, “Informal Hearing Procedures for Adjudication in Materials Licensing Proceedings,” of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to: Secretary, U.S. Nuclear Regulatory Commission, One White Flint North, 11555 Rockville Pike, Rockville, MD 20852-2738, between 7:45 a.m., and 4:15 p.m., Federal workdays; or

2. By mail, telegram, or facsimile addressed to: Secretary, U.S. Nuclear Regulatory Commission, Washington, DC 20555-0001. Attention: Rulemakings and Adjudications Staff.

In accordance with 10 CFR § 2.1205(f), each request for a hearing must also be served, by delivering it personally, or by mail, to:

1. The applicant, Molycorp, Inc., 300 Caldwell Avenue, Washington, PA 15301, Attention: George Dawes, and,

2. The NRC staff, by delivery to the Executive Director for Operations, U.S. Nuclear Regulatory Commission, One White Flint North, 11555 Rockville Pike, Rockville, MD 20852-2738, between 7:45 a.m., and 4:15 p.m., Federal workdays, or by mail, addressed to the Executive Director for Operations, U.S. Nuclear Regulatory Commission, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h);

3. The requester's areas of concern about the licensing activity that is the subject matter of the proceeding; and,

4. The circumstance establishing that the request for a hearing is timely in accordance with § 2.1205(d).

FOR FURTHER INFORMATION CONTACT: The application for the license amendment and supporting documentation are available for inspection at NRC's Public Electronic Reading Room at http://www.nrc.gov/NRC/ADAMS/index.html. Any questions with respect to this action should be referred to Roy Person, Decommissioning Branch, Division of Waste Management, Office of Nuclear Material Safety and Safeguards, U.S. Nuclear Regulatory Commission, Washington, DC 20555-0001. Telephone: (301) 415-6701. Fax: (301) 415-5398.

Dated at Rockville, Maryland, this day of April 2000.
For the Nuclear Regulatory Commission.
Robert A. Nelson,
Acting Chief, Decommissioning Branch, Division of Waste Management, Office of Nuclear Material Safety and Safeguards.

[FR Doc. 00-9465 Filed 4-14-00; 8:45 am]

BILLING CODE 7590-01-P